DEPARTMENT OF COMMERCE

Patent and Trademark Office

[Docket No. 991027289-9289-01]

RIN 0651-AB09

Revised Interim Utility Examination Guidelines; Request for Comments; Correction

AGENCY: Patent and Trademark Office, Commerce.

ACTION: Notice and request for public comments; correction.

SUMMARY: The Patent and Trademark Office (PTO) published a document in the Federal Register of December 21, 1999, concerning request for comments on Revised Interim Utility Examination Guidelines. The word “interim” was inadvertently omitted from the document Subject Heading and text. In addition, an extra period divided the second sentence of the Summary caption into fragments. This document corrects the omissions of “interim” and removes the extra period.

FOR FURTHER INFORMATION CONTACT: Mark Nagumo by telephone at (703) 305-8666, by facsimile at (703) 305-9373, by electronic mail at “mark.nagumo@uspto.gov,” or by mail marked to his attention addressed to the Commissioner of Patents and Trademarks, Box 8, Washington, DC 20231; or Linda Therkorn by telephone at (703) 305-9323, by facsimile at (703) 305-8825, by electronic mail at “linda.therkorn@uspto.gov,” or by mail marked to her attention addressed to Box Comments, Assistant Commissioner of Patents and Trademarks, Washington, DC 20231.

Correction

In the Federal Register of December 21, 1999, in FR Doc. 99-33054, make the following corrections:

On page 71440, in the second column, correct the “Subject Heading” to read:

Revised Interim Utility Examination Guidelines; Request for Comments

On page 71440, in the third column, correct the “Summary” caption to read:

SUMMARY: The Patent and Trademark Office (PTO) requests comments from any interested member of the public on the following Revised Interim Utility Examination Guidelines. The PTO is publishing a revised version of guidelines to be used by Office personnel in their review of patent applications for compliance with the utility requirement based on comments received in response to the Request for Comments on Interim Guidelines for Examination of Patent Applications Under the 35 U.S.C. 112, ¶1 “Written Description” Requirement; Extension of Comment Period and Notice of Hearing. 63 Fed. Reg. 50887 (September 23, 1998). These Revised Interim Utility Guidelines will be used by PTO personnel in their review of patent applications for compliance with the “utility” requirement of 35 U.S.C. 101. This revision supersedes the Utility Examination Guidelines that were published at 60 Fed. Reg. 36263 (1995) and at 1177 O.G. 146 (1995).

On page 71440, in the third column, correct the “Dates” caption to read:

DATES: Written comments on the Revised Interim Utility Examination Guidelines will be accepted by the PTO until March 22, 2000.

On page 71440, in the third column, correct the first sentence of the “Supplementary Information” caption to read:

The PTO requests comments from any interested member of the public on the following Revised Interim Utility Examination Guidelines.

Dated: January 18, 2000.
Albin F. Drost,
Acting Solicitor.

[FR Doc. 00-1461 Filed 1-20-00; 8:45 am]

BILLING CODE 3510-16-U